OFFICE OF PERSONNEL MANAGEMENT

5 CFR Part 532

Prevailing Rate Systems

CFR Correction

In Title 5 of the Code of Federal Regulations, parts 1 to 699, revised as of January 1, 2002, on page 397, Appendix A to Subpart B of Part 532 is corrected by adding footnote reference “1” for South Dakota in the second column after Eastern South Dakota, and on page 399, Appendix B to Subpart B of Part 532 is corrected by removing footnote 1 at the end of the table.

[FR Doc. 02-55527 Filed 12-26-02; 8:45 am]

BILLING CODE 1505-01-D